DEPARTMENT OF ENERGY

Federal Energy Regulatory Commission

Notice of Declaration of Intention and Soliciting Comments, Motions To Intervene, and Protests

February 8, 2000.

Take notice that the following application has been filed with the Commission and is available for public inspection:

a. Application Type: Declaration of Intention.

b. Docket No.: DI00-2-000.

c. Date Filed: December 3, 1999.

d. Applicant: Garkane Power Association, Inc.

e. Name of Project: Glen Canyon-Paria Transmission Project.

f. Location: In Kane County, Utah, and Coconino County, Arizona. The project occupies lands of the United States managed by the Department of the Interior's Bureau of Land Management.

g. Filed Pursuant to: Federal Power Act, 16 U.S.C. § 791(a)-825(r).

h. Applicant Contact: Mr. Michael Avant, Engineering Manager, Garkane Power Association, Inc., 1802 South 175 East, Kanab, Utah 84741 (435) 644-5026, and Glen L. Ortman, Esq., Adrienne E. Clair, Esq., Verner, Liipfert, Benhard, McPherson and Hand, Chartered, 901 15th Street, NW, Suite 700, Washington, DC 20005-6000, (202) 371-6000.

i. FERC Contact: Any questions on this notice should be addressed to Etta Foster at (202) 219-2679, or e-mail address: etta.foster@ferc.fed.us.

j. Deadline for filing comments and or motions: March 13, 2000.

All documents (original and eight copies) should be filed with: David P. Boergers, Secretary, Federal Energy Regulatory Commission, 888 First Street, NE, Washington, DC 20426.

Please include the docket number (DI00-2-000) on any comments or motions filed.

k. Description of Project: The existing project works consists of: a 138-kilovolt transmission line, extending about 36.1 miles from the Bureau of Reclamation's Glen Canyon Dam Powerhouse Switchyard to Garkane Power Association, Inc.'s Paria Substation, and apapurtenant facilities.

l. Locations of the Application: A copy of the application is available for inspection and reproduction at the Commission's Public Reference Room, located at 888 First Street, NE, Room 2A, Washington, DC 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-3316 Filed 2-11-00; 8:45 am]

BILLING CODE 6717-01-M